DEPARTMENT OF AGRICULTURE

Forest Service

Notice of Lincoln County Resource Advisory Committee Meeting

AGENCY: Forest Service, USDA.

ACTION: Notice of meeting.

SUMMARY: Pursuant to the authorities in the Federal Advisory Committee Act (Public Law 92-463) and under the Secure Rural Schools and Community Self-Determination Act of 2000 (Public Law 106-393) the Kootenai National Forests' Lincoln County Resource Advisory Committee will meeting on March 3, April 7, and May 5, 2003 at 6:30 p.m., in Libby, Montana for business meetings. The meetings are open to the public.

DATES: March 3, April 7, and May 5, 2003.

ADDRESSES: The meetings will be held at the Kootenai National Forest Supervisor's Office, located at 1101 U.S. Highway 2 West, Libby, MT.

FOR FURTHER INFORMATION CONTACT: Barbara Edgmon, Committee Coordinator, Kootenai National Forest at (406) 293-6211, or email bedgmon@fs.fed.us.

SUPPLEMENTARY INFORMATION: Agenda topics include informational presentations, status of approved projects, accepting project proposals for consideration and receiving public comment. If the meeting date or location is changed, notice will be posted in the local newspapers, including the Daily Interlake based in Kalispell, MT.

Dated: February 14, 2003.
Frank Votapka,
Acting Forest Supervisor.

[FR Doc. 03-4239 Filed 2-21-03; 8:45 am]

BILLING CODE 3410-11-M